DEPARTMENT OF THE INTERIOR

Fish and Wildlife Service

Availability of Comprehensive Conservation Plan for Waubay National Wildlife Refuge Complex, Waubay, SD

AGENCY: Fish and Wildlife Service, Interior.

ACTION: Notice of availability.

SUMMARY: The U.S. Fish and Wildlife Service announces that a Comprehensive Conservation Plan and Summary for Waubay National Wildlife Refuge and Wetland Management District Complex (Complex) is available. This Plan describes how the U.S. Fish and Wildlife Service intends to manage the Complex for the next 15 years.

ADDRESSES: A copy of the Plan or Summary may be obtained by writing to U.S. Fish and Wildlife Service, Waubay National Wildlife Refuge Complex, 44401 134A Street, Waubay, SD 57273; or download from http://mountain-prairie.fws.gov/planning.

FOR FURTHER INFORMATION CONTACT: Larry Martin, Project Leader, U.S. Fish and Wildlife Service, Waubay National Wildlife Refuge Complex, 44401 134A Street, Waubay, SD 57273. Phone 605-947-4521; fax 605-947-4524; or e-mail: larry_d_martin@fws.gov.

SUPPLEMENTARY INFORMATION:

Background

Waubay National Wildlife Refuge (NWR), comprised of 4,650 acres, is located in Day County in northeastern South Dakota. The Refuge's mix of lakes, wetlands, prairie, forests, and cropland is home to a diversity of wildlife. More than 100 bird species nest on this small piece of habitat, with 37 mammals also calling it home. Waubay NWR was established by President Roosevelt in 1935 as “a refuge and breeding ground for migratory birds and other wildlife.”

Waubay Wetland Management District (WMD) protects over 250,000 acres of wetlands and prairie in six counties of northeastern South Dakota. The area's mix of native grass, planted grasses, cropland, and wetlands support a variety of wildlife. The WMD is home to 247 species of birds, 43 species of mammals, and over 20 species of amphibians and reptiles. Breeding waterfowl and grassland-dependent passerines are two groups that are especially prominent.

The availability of the Draft CCP/Environmental Assessment (EA) for 30-day public review and comment was announced in the Federal Register on Wednesday, May 29, 2002 in Volume 67, Number 103. The Draft CCP/EA identified and evaluated three alternatives for managing Waubay National Wildlife Refuge Complex for the next 15 years. Alternative A, the No Action Alternative, would continue current management of the Refuge and Wetland Management District (WMD). Alternative B, the Tallgrass Prairie Alternative, would focus on protecting and restoring tallgrass prairie in the Minnesota-Red River Lowlands of the WMD. Alternative C, Enhanced Management, the preferred alternative, would increase management of Complex habitats and public use opportunities.

Based on this assessment and comments received, the preferred Alternative C was selected for implementation. The preferred alternative was selected because it best meets the purposes of the Refuge and WMD as a refuge and breeding ground for migratory birds and wild animals. The preferred alternative will also provide for enhanced public access for wildlife-dependent recreation, and provides environmental education opportunities related to fish and wildlife resources.

Dated: October 2, 2002.
Elliott Sutta,
Acting Regional Director, Region 6, Denver, Colorado.

[FR Doc. 03-10505 Filed 4-28-03; 8:45 am]

BILLING CODE 4310-55-P